DEPARTMENT OF AGRICULTURE

Forest Service

Boundary Establishment for Whychus Creek National Wild and Scenic River, Deschutes National Forest, Deschutes County, Oregon

AGENCY: Forest Service, USDA.

ACTION: Notice of availability.

SUMMARY: In accordance with Section 3(b) of the Wild and Scenic Rivers Act, the USDA, Forest Service, Washington Office, is transmitting the final boundary of the Whychus Creek National Wild and Scenic River to Congress.

FOR FURTHER INFORMATION CONTACT: Information may be obtained by contacting Deschutes National Forest Supervisor's Office, 63095 Deschutes Market Road, Bend, OR 97701; (541) 383-5300.

SUPPLEMENTARY INFORMATION: The Whychus Creek Wild and Scenic River boundary is available for review at the following offices: USDA Forest Service, Yates Building, 14th and Independence Avenue SW, Washington, DC 20024; Pacific Northwest Region, 1220 SW 3rd Avenue, Portland, Oregon 97204; and, Deschutes National Forest Supervisor's Office, 63095 Deschutes Market Road, Bend, OR 97701.

The Omnibus Oregon Wild and Scenic Rivers Act of 1988 (Pub. L. 100-557) of October 28, 1988, designated Squaw Creek, Oregon, as a National Wild and Scenic River, to be administered by the Secretary of Agriculture. The John D. Dingell, Jr. Conservation, Management, and Recreation Act (Pub. L. 116-9) of March 12, 2019 amended the designation, including changing the name to Whychus Creek in the Wild and Scenic Rivers Act.

As specified by law, the boundary will not be effective until ninety days after Congress receives the transmittal.

Dated: June 7, 2019.
Frank R. Beum,
Acting Associate Deputy Chief, National Forest System.

[FR Doc. 2019-14993 Filed 7-12-19; 8:45 am]

BILLING CODE 3411-15-P